DEPARTMENT OF TRANSPORTATION

Surface Transportation Board

[STB Finance Docket No. 33979]

CenTra, Inc., et al.—Continuance in Control Exemption—Riverview Trenton Railroad Company

CenTra, Inc. (CenTra) and Crown Enterprises, Inc. (Crown) (collectively applicants), noncarriers, have filed a verified notice of exemption to continue in control of the Riverview Trenton Railroad Company (Riverview), upon Riverview's becoming a Class III railroad.

The transaction was expected to be consummated on the effective date of the exemption. The earliest the transaction could be consummated was December 20, 2000, 7 days after the exemption was filed.

This transaction is related to STB Finance Docket No. 33980, Riverview Trenton Railroad Company—Acquisition and Operation Exemption—Crown Enterprises, Inc., wherein Riverview seeks to acquire a line of railroad approximately 1.5 miles long in Riverview and Trenton, MI.

CenTra controls Crown and Crown controls Jefferson Terminal Railroad Company (Jefferson), an entity formed to become a Class III railroad, which has filed a notice of exemption to acquire and operate a lined owned by Crown in Detroit, MI.¹

¹ The notice of exemption was filed in Jefferson Terminal Railroad Co.—Acquisition and Operation Exemption—Crown Enterprises, Inc., STB Finance Docket No. 33950 (STB served and published at 65 FR 66802 on Nov. 7, 2000). A petition filed by the City of Detroit to revoke the exemption is currently pending.

Applicants state that (i) the rail lines of Riverview and Jefferson will not connect with each other, (ii) the transaction is not part of a series of transactions that would connect the railroads with each other and there is no other railroad in the corporate family, and (iii) the transaction does not involve a Class I carrier. Therefore, the transaction is exempt from the prior approval requirements of 49 U.S.C. 11323. See 49 CFR 1180.2(d)(2).

Under 49 U.S.C. 10502(g), the Board may not use its exemption authority to relieve a rail carrier of its statutory obligation to protect the interests of its employees. Section 11326(c), however, does not provide for labor protection for transactions under sections 11324 and 11325 that involve only Class III rail carriers. Because this transaction involves Class III rail carriers only, the Board, under the statute, may not impose labor protective conditions for this transaction.

If the notice contains false or misleading information, the exemption is void ab initio. Petitions to revoke the exemption under 49 U.S.C. 10502(d) may be filed at any time. The filing of a petition to revoke will not automatically stay the transaction.

An original and 10 copies of all pleadings, referring to STB Finance Docket No. 33979, must be filed with the Surface Transportation Board, Office of the Secretary, Case Control Unit, 1925 K Street, NW., Washington, DC 20423-0001. In addition, a copy of each pleading must be served on Daniel C. Sullivan, Esq., Sullivan & Hincks, 122 W. 22nd Street, Suite 350, Oak Brook, IL 60523.

Board decisions and notices are available on our website at “WWW.STB.DOT.GOV.”

Decided: December 29, 2000.
By the Board, David M. Konschnik, Director, Office of Proceedings.
Vernon A. Williams,
Secretary.

[FR Doc. 01-329 Filed 1-8-01; 8:45 am]

BILLING CODE 4915-00-P